SECURITIES AND EXCHANGE COMMISSION

[File No. 500-1]

In the Matter of Ads in Motion, Inc., Premier Beverage Group Corp., Pulmo BioTech, Inc., TriMedia Entertainment Group, Inc., and Zanett, Inc., Order of Suspension of Trading

February 20, 2014.

It appears to the Securities and Exchange Commission that there is a lack of current and accurate information concerning the securities of Ads In Motion, Inc. because it has not filed any periodic reports since the period ended February 26, 2011.

It appears to the Securities and Exchange Commission that there is a lack of current and accurate information concerning the securities of Premier Beverage Group Corp. because it has not filed any periodic reports since the period ended September 30, 2012.

It appears to the Securities and Exchange Commission that there is a lack of current and accurate information concerning the securities of Pulmo BioTech, Inc. because it has not filed any periodic reports since the period ended December 31, 2009.

It appears to the Securities and Exchange Commission that there is a lack of current and accurate information concerning the securities of TriMedia Entertainment Group, Inc. because it has not filed any periodic reports since the period ended July 31, 2008.

It appears to the Securities and Exchange Commission that there is a lack of current and accurate information concerning the securities of Zanett, Inc. because it has not filed any periodic reports since the period ended March 31, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. EST on February 20, 2014, through 11:59 p.m. EST on March 5, 2014.

By the Commission.
Jill M. Peterson,
Assistant Secretary.

[FR Doc. 2014-03993 Filed 2-20-14; 4:15 pm]

BILLING CODE 8011-01-P